NUCLEAR REGULATORY COMMISSION

[Docket No. 70-7015; NRC-2009-0187]

Notice of Intent and Opportunity to Provide Written Comments AREVA Enrichment Services LLC Eagle Rock Enrichment, Idaho Falls, ID

AGENCY: Nuclear Regulatory Commission.

ACTION: Notice of Intent (NOI).

SUMMARY: AREVA Enrichment Services (AES) LLC submitted the original license application on December 30, 2008, that proposes the construction, operation and decommissioning of a gas centrifuge uranium enrichment facility to be located near Idaho Falls, Idaho. On April 24, 2009, AREVA resubmitted the application to request an enrichment capacity increase. The U.S. Nuclear Regulatory Commission (NRC), in accordance with the National Environmental Policy Act (NEPA) and 10 CFR Part 51, announces its intent to prepare an Environmental Impact Statement (EIS) evaluating this proposed action. The EIS will examine the potential environmental impacts of the proposed facility.

DATES: NRC invites public comments on the appropriate scope of issues to be considered in the EIS. The public scoping process begins with publication of this NOI. Written comments submitted by mail should be postmarked by no later than June 19, 2009, to ensure consideration. Comments mailed after that date will be considered to the extent practical. The NRC will conduct a public scoping meeting in Idaho Falls to assist in defining the appropriate scope of the EIS, and to help identify the significant environmental issues that need to be addressed in detail. The meeting date, times and location are listed below:

• Meeting date: June 4, 2009.

• Meeting location: Shilo Inn, 780 Lindsay Boulevard, Idaho Falls, Idaho 83402.

• Scoping meeting time: 6:30 p.m. to 9:30 p.m.

ADDRESSES: Members of the public are invited and encouraged to submit written comments regarding the appropriate scope and content of the EIS. Comments may be sent to the Chief, Rules and Directives Branch, Mail Stop TWB-05-B01, U.S. Nuclear Regulatory Commission, Washington, DC 20555-0001. Please note Docket No. 70-7015 when submitting comments. Also comments may be sent electronically to EagleRock.EIS@nrc.gov.

FOR FURTHER INFORMATION CONTACT: For general or technical information associated with the license review of the AES application, please contact Breeda Reilly at (301) 492-3110. For general information on the NRC NEPA or the environmental review process related to the AES application, please contact Gloria Kulesa at (301) 415-5308.

Information and documents associated with the AES project, including the license application (submitted on December 30, 2008), are available for public review through our electronic reading room: http://www.nrc.gov/reading-rm/adams.html and on the NRC's AREVA Eagle Rock Enrichment Facility Web page: http://www.nrc.gov/materials/fuel-cycle-fac/arevanc.html. Documents may also be obtained from NRC's Public Document Room at the U.S. Nuclear Regulatory Commission Headquarters, 11555 Rockville Pike (first floor), Rockville, Maryland.

SUPPLEMENTARY INFORMATION:

1.0 Background

AES submitted a license application and an Environmental Report for a gas centrifuge uranium enrichment facility to the NRC on December 30, 2008. The NRC will evaluate the potential environmental impacts associated with the proposed enrichment facility in parallel with the review of the license application. This environmental evaluation will be documented in draft and final EISs in accordance with NEPA and NRC's implementing regulations contained in 10 CFR part 51.

If NRC later finds AES' complete license application to be acceptable for review, a Notice of Hearing and Opportunity to Petition for Leave to Intervene will be published in a future Federal Register notice. The purpose of the present notice is to inform the public that the NRC staff will prepare an EIS as part of the review of the application, and to encourage the public to participate in the environmental scoping process as defined in 10 CFR 51.29.

2.0 AREVA Eagle Rock Enrichment Facility

The facility, if licensed, would enrich uranium for use in manufacturing commercial nuclear fuel for use in power reactors. Feed material would be natural (not enriched) uranium in the form of uranium hexafluoride (UF6) which contains the uranium-235 isotope. AES proposes to use centrifuge technology to enrich this isotope in the UF6 to up to 5 percent by weight. The centrifuge would operate at below atmospheric pressure. The capacity of the plant would be up to 6.6 million separative work units (SWU) (SWU relates to a measure of the work used to enrich uranium). The enriched UF6 would be transported to a fuel fabrication facility. The depleted UF6 would be stored on site until it is sold, disposed of commercially, or taken by the Department of Energy.

3.0 Alternatives to be Evaluated

No-Action—The no-action alternative would be to not build the proposed gas centrifuge uranium enrichment facility. Under this alternative, the NRC would not approve the license application. This serves as a baseline for comparison.

Proposed Action—The proposed action involves the construction, operation, and decommissioning of a gas centrifuge uranium enrichment facility located near Idaho Falls, Idaho. The applicant would be issued an NRC license under the provisions of 10 CFR Parts 30, 40, and 70. Other alternatives not listed here may be identified through the scoping process.

4.0 Environmental Impact Areas to be Analyzed

The following areas have been tentatively identified for analysis in the EIS:

• Land Use: Plans, policies and controls;

• Transportation: Transportation modes, routes, quantities, and risk estimates;

• Geology and Soils: Physical geography, topography, geology and soil characteristics;

• Water Resources: Surface and groundwater hydrology, water use and quality, and the potential for degradation;

• Ecology: Wetlands, aquatic, terrestrial, economically and recreationally important species, and threatened and endangered species;

• Air Quality: Meteorological conditions, ambient background, pollutant sources, and the potential for degradation;

• Noise: Ambient, sources, and sensitive receptors;

• Historical and Cultural Resources: Historical, archaeological, and traditional cultural resources;

• Visual and Scenic Resources: Landscape characteristics, manmade features and view shed;

• Socioeconomics: Demography, economic base, labor pool, housing, transportation, utilities, public services/facilities, education, recreation, and cultural resources;

• Environmental Justice: Potential disproportionately high and adverse impacts to minority and low-income populations;

• Public and Occupational Health: Potential public and occupational consequences from construction, routine operation, transportation, and credible accident scenarios (including natural events);

• Waste Management: Types of wastes expected to be generated, handled, and stored; and

• Cumulative Effects: Impacts from past, present and reasonably foreseeable actions at, and near the site(s).

This list is not intended to be all inclusive, nor is it a predetermination of potential environmental impacts. The list is presented to facilitate comments on the scope of the EIS. Additions to, or deletions from this list may occur as a result of the public scoping process.

5.0 Scoping Meeting

One purpose of this notice is to solicit public comments on the proposed scope and content of the EIS. The NRC will hold a public scoping meeting in Idaho Falls, Idaho, to solicit both oral and written comments from interested parties. Scoping is an early and open process designed to determine the range of actions, alternatives, and potential impacts to be considered in the EIS and to identify significant issues related to the proposed action. It is intended to solicit input from the public and other agencies so that the analysis can be more clearly focused on issues of genuine concern. The principal goals of the scoping process are to:

• Ensure that concerns are identified early and are properly studied;

• Identify alternatives that will be examined;

• Identify significant issues that need to be analyzed;

• Eliminate unimportant issues from detailed consideration; and

• Identify public concerns.

On June 4, 2009, the NRC will hold a public scoping meeting in Idaho Falls to solicit both oral and written comments from interested parties. The meeting will be transcribed to record public comments. The meeting will begin with NRC staff providing a description of the NRC's role and mission. A brief overview of the licensing process will be followed by a brief description of the environmental review process. Most of the meeting time will be allotted for attendees to make oral comments.

In addition, the NRC staff will host informal discussions for one hour prior to the start of the public meeting. No formal comments on the proposed scope of the EIS will be accepted during the informal discussions. To be considered, comments must be provided either at the transcribed public meeting or in writing, as discussed below.

Persons may register to attend or present oral comments at the scoping meeting by contacting Tarsha Moon at (301) 415-7843, or by sending e-mail to Tarsha.Moon@nrc.gov no later than May 28, 2009. Members of the public may also register to speak at the meeting prior to the start of the session. Individual oral comments may be limited by the time available, depending on the number of persons who register. Members of the public who have not registered may also have an opportunity to speak, if time permits. If special equipment or accommodations are needed to attend or present information at the public meeting, please contact Tarsha Moon no later than May 21, 2009, so that the NRC staff can determine whether the request can be accommodated.

6.0 Scoping Comments

Members of the public may provide comments orally at the transcribed public scoping meeting or in writing. Written comments may be sent by e-mail to EagleRock.EIS@nrc.gov or mailed to the address listed above in the ADDRESSES Section.

At the conclusion of the scoping process, the NRC staff will prepare a summary of public comments regarding the scope of the environmental review and significant issues identified. NRC staff will send this summary to each participant in the scoping process for whom the staff has an address. This summary and project-related material will be available for public review through our electronic reading room: http://www.nrc.gov/reading-rm/adams.html. The scoping meeting summaries and project-related materials will also be available on the NRC's AREVA Eagle Rock Enrichment Facility Web page: http://www.nrc.gov/materials/fuel-cycle-fac/arevanc.html.

7.0 The NEPA Process

The EIS for the AES facility will be prepared pursuant to the National Environmental Policy Act of 1969 and the NRC's NEPA Regulations at 10 CFR Part 51. After the scoping process is complete, the NRC and its contractor will prepare and publish a draft EIS. A 45-day comment period on the draft EIS is planned, and public meetings to receive comments will be held approximately three weeks after publication of the draft EIS. Availability of the draft EIS, the dates of the public comment period, and information about the public meetings will be announced in the Federal Register, on NRC's AREVA Eagle Rock Enrichment Facility Web page, and in the local news media. The final EIS will include responses to any comments received on the draft EIS.

Dated at Rockville, Maryland, this 27th day of April 2009.
For The Nuclear Regulatory Commission.
Patrice M. Bubar,
Deputy Director, Environmental Protection and Performance Assessment Directorate, Division of Waste Management, and Environmental Protection, Office of Federal and State Materials, and Environmental Management Programs.

[FR Doc. E9-10141 Filed 5-1-09; 8:45 am]

BILLING CODE 7590-01-P